DEPARTMENT OF HEALTH AND HUMAN SERVICES

Administration for Children and Families

[CFDA Number: 93.508]

Announcing the Award of Six Single-Source Expansion Supplement Grants Under the Tribal Maternal, Infant, and Early Childhood Home Visiting (Tribal MIECHV) Program

AGENCY: Office of Child Care, ACF, HHS.

ACTION: Notice of the award of six single-source program expansion supplement grants to Tribal Maternal, Infant, and Early Childhood Home Visiting (Tribal MIECHV) grantees.

SUMMARY: The Administration for Children and Families (ACF), Office of Child Care (OCC), Tribal Maternal, Infant, and Early Childhood Home Visiting (Tribal MIECHV) Program, announces the award of single-source program expansion supplement grants to the Confederated Salish and Kootenai Tribes in Pablo, MT, Confederated Tribes of Siletz Indians in Siletz, OR, Inter-Tribal Council of Michigan in Sault Ste. Marie, MI, Native American Health Center, Inc. in Oakland, CA, Red Cliff Band of Lake Superior Chippewa in Bayfield, WI, and Riverside-San Bernardino County Indian Health, Inc. in Banning, CA.

The Fiscal Year 2015 single-source program expansion supplement grants will support the grantees' project activities as they continue to implement their Tribal MIECHV programs and will allow for opportunities for enhanced, or expanded, service delivery.

DATES: The period of support is July 1, 2015 through June 30, 2016 for the Native American Health Center, Inc. and the Riverside-San Bernardino County Indian Health, Inc., and, September 30, 2015 through September 29, 2016 for Confederated Salish and Kootenai Tribes, the Confederated Tribes of Siletz Indians, the Inter-Tribal Council of Michigan, and the Red Cliff Band of Lake Superior Chippewa.

FOR FURTHER INFORMATION CONTACT: Rachel Schumacher, Director, Office of Child Care, 901 D Street SW., Washington, DC 20447. Telephone: (202) 401-6984; Email: rachel.schumacher@acf.hhs.gov.

SUPPLEMENTARY INFORMATION: The Tribal Maternal, Infant and Early Childhood Home Visiting (MIECHV) Program, funded from a 3 percent set-aside to the Maternal, Infant, and Early Childhood Home Visiting Program, is designed to strengthen tribal capacity to support and promote the health and well-being of American Indian and Alaska Native (AIAN) families; expand the evidence base around home visiting in tribal communities; and support and strengthen cooperation and linkages between programs that service AIAN children and their families. Funds under the Tribal MIECHV Program support Indian tribes, consortia of tribes, tribal organizations, and urban Indian organizations to provide high-quality, culturally relevant, voluntary, evidence-based home visiting services to families in at-risk communities; conduct a needs and readiness assessment of the at-risk community; engage in collaborative planning and capacity building efforts to address identified needs; establish, measure, and report on progress toward meeting benchmark performance measures for participating children and families; and conduct rigorous local evaluations to answer questions of importance to tribal communities and examine the effectiveness of home visiting programs with AIAN populations.

A single-source supplemental grant of $45,000 was awarded to the Confederated Salish and Kootenai Tribes in Pablo, MT, to support the hire of an additional home visitor. A single-source supplemental grant of $25,000 was awarded to Confederated Tribes of Siletz Indians in Siletz, OR, to support their goal of providing needed services to families with children aged 3 to 5 years old. A single-source supplemental grant of $120,000 was awarded to Inter-Tribal Council of Michigan in Sault Ste. Marie, MI, to support appropriate reflective supervision for its home visitors and to expand services at a high performing site where there is a waiting list. A single-source supplemental grant of $50,000 was awarded to the Native American Health Center, Inc. in Oakland, CA, to provide enhanced mental health support to high-risk families and home visitors. A single-source supplemental grant of $50,000 was awarded to the Red Cliff Band of Lake Superior Chippewa in Bayfield, WI, to support provision of reflective supervision for program staff, including the development of culturally appropriate strategies, and to support enhanced dissemination of information about the community's home visiting program and its early childhood system (e.g., digital storytelling). A single-source supplemental grant of $45,000 was awarded to Riverside-San Bernardino County Indian Health, Inc. in Banning, CA, to support the hire of an additional home visitor.

Statutory Authority: Section 511(h)(2)(A) of Title V of the Social Security Act, as added by Section 2951 of the Patient Protection and Affordable Care Act, Pub. L. 111-148, and amended by the Protecting Access to Medicare Act of 2014, Pub. L. 113-93.

Christopher Beach,
Senior Grants Policy Specialist, Division of Grants Policy, Office of Administration.

[FR Doc. 2015-09074 Filed 4-20-15; 8:45 am]

BILLING CODE 4184-43-P